DEPARTMENT OF VETERANS AFFAIRS

[OMB Control No. 2900-0362]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before August 19, 2002.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0362.”

Send comments and recommendations concerning any aspect of the information collection to VA's OMB Desk Officer, OMB Human Resources and Housing Branch, New Executive Office Building, Room 12035, Washington, DC 20503 (202) 395-7316. Please refer to “OMB Control No. 2900-0362” in any correspondence.

SUPPLEMENTARY INFORMATION:

Titles

a. Claim Under Loan Guaranty (Chapter 37, Title 38, U.S.C.), VA Form 26-1874.

b. Supplemental Claim Form—Adjustable Rate Mortgages, VA Form 26-1874a.

OMB Control Number: 2900-0362.

Type of Review: Extension of a currently approved collection.

Abstract

a. Lenders and holders of VA guaranteed home loans use VA Form 26-1874 as notification to VA of default loans.

b. VA Form 26-1874a is used as an attachment to VA Form 26-1874 when filing a claim under the loan guaranty resulting from the termination of an Adjustable Rate Mortgage Loan. The information obtained on both forms is essential to VA in determining the amount owed to the holder under the guaranty.

An agency may not conduct or sponsor, and a person is not required to respond to a collection of information unless it displays a currently valid OMB control number. The Federal Register Notice with a 60-day comment period soliciting comments on this collection of information was published on March 29, 2002, at pages 15286-15287.

Affected Public: Business or other for-profit.

Estimated Annual Burden: 26,139 hours.

a. VA Form 26-1874—25,806 hours.

b. VA Form 26-1874a—333 hours.

Estimated Average Burden Per Respondent: 59 minutes (average).

a. VA Form 26-1874—60 minutes.

b. VA Form 26-1874a—20 minutes.

Frequency of Response: On occasion.

Estimated Number of Total Respondents: 26,806.

a. VA Form 26-1874—25,806.

b. VA Form 26-1874a—1,000.

Dated: July 1, 2002.
By direction of the Secretary.
Genie McCully,
Acting Director, Information Management Service.

[FR Doc. 02-18267 Filed 7-18-02; 8:45 am]

BILLING CODE 8320-01-P